DEPARTMENT OF ENERGY

Federal Energy Regulatory Commission

Combined Notice of Filings #1

October 21, 2005.

Take notice that the Commission received the following electric rate filings.

Docket Numbers: ER03-836-007.

Applicants: New York Independent System Operator, Inc.

Description: New York Independent System Operator, Inc. submits a compliance filing pursuant to Commission's March 15, 2005 Order.

Filed Date: October 14, 2005.

Accession Number: 20051014-5151.

Comment Date: 5 p.m. Eastern Time on Friday, November 4, 2005.

Docket Numbers: ER04-1003-005; ER04-1007-005.

Applicants: American Electric Power Service Corporation.

Description: American Electric Power Service Corp, on behalf of AEP Operating Companies amends its filing and submits a revised Attachment T to their Open Access Transmission Tariff, FERC Electric Tariff, Third Revised Volume No. 6.

Filed Date: October 14, 2005.

Accession Number: 20051018-0021.

Comment Date: 5 p.m. Eastern Time on Friday, November 4, 2005.

Docket Numbers: ER05-1018-002.

Applicants: Midwest Independent Transmission System Operator, Inc.

Description: Midwest Independent Transmission System Operator Inc submits an errata to its September 13, 2005 compliance filing of large generator interconnection agreement.

Filed Date: October 14, 2005.

Accession Number: 20051018-0010.

Comment Date: 5 p.m. Eastern Time on Friday, November 4, 2005.

Docket Numbers: ER05-410-003.

Applicants: Southern California Edison Company.

Description: Southern California Edison Co. submits the monthly refunds to Arizona Electric Power Cooperative, Inc., the City of Colton, Southern Calif. Water Project, and the Calif. Dept. of Water Resources, State Water Project.

Filed Date: October 14, 2005.

Accession Number: 20051018-0019.

Comment Date: 5 p.m. Eastern Time on Friday, November 4, 2005.

Docket Numbers: ER05-666-005.

Applicants: Southwest Power Pool, Inc.

Description: Southwest Power Pool, Inc submits an errata to the August 22, 2005 filing submitted in compliance with FERC's July 21, 2005 Order.

Filed Date: October 14, 2005.

Accession Number: 20051017-0225.

Comment Date: 5 p.m. Eastern Time on Friday, November 4, 2005.

Docket Numbers: ER06-34-000.

Applicants: Pacific Gas & Electric Company.

Description: Pacific Gas and Electric Co. submits its compliance filings involving changes to the Annual Transmission Revenue Balancing Account Adjustment and the Reliability Services rates.

Filed Date: October 14, 2005.

Accession Number: 20051017-0179.

Comment Date: 5 p.m. Eastern Time on Friday, November 4, 2005.

Docket Numbers: ER06-36-000.

Applicants: Westar Energy, Inc.

Description: Westar Energy, Inc. on behalf of Kansas Gas & Electric Co. submits a notice of termination of Supplement No. 5, Service Schedule B, to FERC Electric Rate Schedule No.183.

Filed Date: October 14, 2005.

Accession Number: 20051018-0007.

Comment Date: 5 p.m. Eastern Time on Friday, November 4, 2005.

Docket Numbers: ER06-37-000.

Applicants: Westar Energy, Inc.

Description: Westar Energy Inc, formerly Western Resources Inc. submits a notice of termination of Second Revised FERC Electric Rate Schedule No. 264.

Filed Date: October 14, 2005.

Accession Number: 20051018-0008.

Comment Date: 5 p.m. Eastern Time on Friday, November 4, 2005.

Docket Numbers: ER06-38-000.

Applicants: Xcel Energy Services, Inc.

Description: Xcel Energy Services Inc submits for filing Connection Agreements between Northern States Power Co. & Great Rivers Energy for Great River Energy's Yankee Doodle & Lake Constance Substations.

Filed Date: October 14, 2005.

Accession Number: 20051019-0005.

Comment Date: 5 p.m. Eastern Time on Friday, November 4, 2005.

Docket Numbers: ER06-39-000.

Applicants: California Independent System Operator Corporation.

Description: California Independent System Operator Corp. submits a Metered Subsystem Agreement with the City of Anaheim, California pursuant to section 205 of the Federal Power Act.

Filed Date: October 14, 2005.

Accession Number: 20051018-0242.

Comment Date: 5 p.m. Eastern Time on Friday, November 4, 2005.

Docket Numbers: ER06-40-000.

Applicants: California Independent System Operator Corporation.

Description: California Independent System Operator Corp. provides notice of the cancellation of ISO rate Schedule No. 57, the Operating Agreement with Modesto Irrigation District.

Filed Date: October 14, 2005.

Accession Number: 20051018-0006.

Comment Date: 5 p.m. Eastern Time on Friday, November 4, 2005.

Docket Numbers: ER06-41-000.

Applicants: California Independent System Operator Corporation.

Description: California Independent System Operator Corp. notifies FERC of the cancellation of ISO Rate Schedule FERC No. 55.

Filed Date: October 14, 2005.

Accession Number: 20051018-0005.

Comment Date: 5 p.m. Eastern Time on Friday, November 4, 2005.

Docket Numbers: ER06-42-000.

Applicants: California Independent System Operator Corporation.

Description: California Independent System Operator Corp. submits an amendment to the amended and restated Metered Subsystem Aggregator Agreement with Northern California Power Agency.

Filed Date: October 14, 2005.

Accession Number: 20051018-0234.

Comment Date: 5 p.m. Eastern Time on Friday, November 4, 2005.

Docket Numbers: ER96-719-008; ER99-2156-006.

Applicants: MidAmerican Energy Company; Cordova Energy Company, LLC.

Description: MidAmerican Energy Co. and Cordova Energy Co., LLC submits a notice of change in status regarding the ownership of certain generating facilities.

Filed Date: October 14, 2005.

Accession Number: 20051018-0023.

Comment Date: 5 p.m. Eastern Time on Friday, November 4, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E5-5966 Filed 10-26-05; 8:45 am]

BILLING CODE 6717-01-P